DEPARTMENT OF ENERGY

Federal Energy Regulatory Commission

Combined Notice of Filings #1

Take notice that the Commission received the following exempt wholesale generator filings:

Docket Numbers: EG18-130-000.

Applicants: Mankato Energy Center II, LLC.

Description: Mankato Energy Center II, LLC Notice of Self-Certification of Exempt Wholesale Generator status.

Filed Date: 9/28/18.

Accession Number: 20180928-5012.

Comments Due: 5 p.m. ET 10/19/18.

Take notice that the Commission received the following electric rate filings:

Docket Numbers: ER10-2630-002; ER16-1914-002.

Applicants: NGP Blue Mountain I LLC, Patua Acquisition Company, LLC.

Description: Notice of Non-Material Change in Status NGP Blue Mountain I LLC, et al.

Filed Date: 9/27/18.

Accession Number: 20180927-5160.

Comments Due: 5 p.m. ET 10/18/18.

Docket Numbers: ER18-459-003.

Applicants: PJM Interconnection, L.L.C.

Description: Compliance filing: Compliance Filing Pursuant to August 31, 2018 Letter Order re: OVEC Integration to be effective 12/1/2018.

Filed Date: 9/27/18.

Accession Number: 20180927-5128.

Comments Due: 5 p.m. ET 10/18/18.

Docket Numbers: ER18-2025-001.

Applicants: Duke Energy Carolinas, LLC.

Description: Compliance filing: DEC-Central Power EPC PPSA Compliance Filing to be effective 9/1/2018.

Filed Date: 9/28/18.

Accession Number: 20180928-5045.

Comments Due: 5 p.m. ET 10/19/18.

Docket Numbers: ER18-2496-000.

Applicants: PJM Interconnection, L.L.C.

Description: § 205(d) Rate Filing: Revisions to Rate Schedules to add new DOE Reliability Services Agreement to be effective 12/1/2018.

Filed Date: 9/27/18.

Accession Number: 20180927-5138.

Comments Due: 5 p.m. ET 10/18/18.

Docket Numbers: ER18-2497-000.

Applicants: Lawrenceburg Power, LLC.

Description: § 205(d) Rate Filing: Lawrenceburg Power, LLC—Reactive Service Update to be effective 12/1/2018.

Filed Date: 9/27/18.

Accession Number: 20180927-5140.

Comments Due: 5 p.m. ET 10/18/18.

Docket Numbers: ER18-2498-000.

Applicants: California Independent System Operator Corporation.

Description: § 205(d) Rate Filing: 2018-09-27 2018 Interconnection Process Enhancements Amendment to be effective 11/27/2018.

Filed Date: 9/28/18.

Accession Number: 20180928-5002.

Comments Due: 5 p.m. ET 10/19/18.

Docket Numbers: ER18-2499-000.

Applicants: Southwest Power Pool, Inc.

Description: § 205(d) Rate Filing: 2880R2 Rattlesnake Creek Wind Project GIA to be effective 9/7/2018.

Filed Date: 9/28/18.

Accession Number: 20180928-5004.

Comments Due: 5 p.m. ET 10/19/18.

Docket Numbers: ER18-2500-000.

Applicants: Southwest Power Pool, Inc.

Description: § 205(d) Rate Filing: 2236R10 Golden Spread Electric Cooperative, Inc. NITSA NOA to be effective 9/1/2018.

Filed Date: 9/28/18.

Accession Number: 20180928-5035.

Comments Due: 5 p.m. ET 10/19/18.

Docket Numbers: ER18-2501-000.

Applicants: Alabama Power Company.

Description: § 205(d) Rate Filing: PowerSouth NITSA Amendments (Crumptonia, Pintlala, Enterprise & Oliver DPs) to be effective 11/27/2018.

Filed Date: 9/28/18.

Accession Number: 20180928-5053.

Comments Due: 5 p.m. ET 10/19/18.

Docket Numbers: ER18-2502-000.

Applicants: Southern California Edison Company.

Description: § 205(d) Rate Filing: GIA and Distrib Serv Agmt Ridgetop Energy, LLC and Pacific Crest Power, LLC to be effective 10/1/2018.

Filed Date: 9/28/18.

Accession Number: 20180928-5077.

Comments Due: 5 p.m. ET 10/19/18.

Docket Numbers: ER18-2503-000.

Applicants: Avista Corporation.

Description: § 205(d) Rate Filing: Avista Corp FERC Rate Schedule T1145 to be effective 10/1/2018.

Filed Date: 9/28/18.

Accession Number: 20180928-5090.

Comments Due: 5 p.m. ET 10/19/18.

Docket Numbers: ER18-2504-000.

Applicants: Willow Springs Solar, LLC.

Description: Baseline eTariff Filing: Filing of Desert Flower Shared Facilities Agreement to be effective 10/14/2018.

Filed Date: 9/28/18.

Accession Number: 20180928-5110.

Comments Due: 5 p.m. ET 10/19/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 28, 2018.
Nathaniel J. Davis, Sr.,
Deputy Secretary.

[FR Doc. 2018-21741 Filed 10-4-18; 8:45 am]

BILLING CODE 6717-01-P